DEPARTMENT OF COMMERCE

International Trade Administration

[A-489-822]

Welded Line Pipe From the Republic of Turkey: Final Rescission of Antidumping Duty Administrative Review, in Part, and Final Deferral of Administrative Review, in Part; 2018-2019

AGENCY: Enforcement and Compliance, International Trade Administration, Department of Commerce.

SUMMARY: The Department of Commerce (Commerce) determines that Cimtas Boru Imalatlari ve Ticaret, Ltd. Sti. (Cimtas), the sole mandatory respondent and only company with suspended entries of subject merchandise during the period of review (POR), did not have reviewable sales during the POR, December 1, 2018, through November 30, 2019. We are deferring, in part, Cimtas' sales reporting until a subsequent review period. Additionally, Commerce is rescinding, in part, this administrative review with respect to the remaining 18 companies for which we initiated a review because they have no reviewable, suspended entries of subject merchandise during the POR.

DATES: Applicable April 2, 2021.

FOR FURTHER INFORMATION CONTACT: Alice Maldonado, AD/CVD Operations, Office II, Enforcement and Compliance, International Trade Administration, U.S. Department of Commerce, 1401 Constitution Avenue NW, Washington, DC 20230; telephone: (202) 482-4682.

SUPPLEMENTARY INFORMATION:

Background

On December 17, 2020, Commerce published the Preliminary Results.¹ Although we invited parties to comment on the preliminary results of the review,² no interested party submitted comments. Accordingly, no changes have been made to the Preliminary Results, and no decision memorandum accompanies this Federal Register notice.³ Commerce conducted this administrative review in accordance with section 751 of the Tariff Act of 1930, as amended (the Act).

¹ See Welded Line Pipe from the Republic of Turkey: Preliminary Rescission of Antidumping Duty Administrative Review, in Part, and Preliminary Deferral of Administrative Review, in Part; 2018-2019, 85 FR 81877 (December 17, 2020) (Preliminary Results).

² Id. at 81878-79.

³ For further details of the events that followed the initiation of this review and the issues addressed in this proceeding, see Preliminary Results.

Scope of the Order

The products covered by the order are circular welded carbon and alloy steel (other than stainless steel) pipe of a kind used for oil or gas pipelines (welded line pipe), not more than 24 inches in nominal outside diameter, regardless of wall thickness, length, surface finish, end finish, or stenciling. Welded line pipe is normally produced to the American Petroleum Institute (API) specification 5L, but can be produced to comparable foreign specifications, to proprietary grades, or can be non-graded material. All pipe meeting the physical description set forth above, including multiple-stenciled pipe with an API or comparable foreign specification line pipe stencil is covered by the scope of this order.

The welded line pipe that is subject to the order is currently classifiable in the Harmonized Tariff Schedule of the United States (HTSUS) under subheadings 7305.11.1030, 7305.11.5000, 7305.12.1030, 7305.12.5000, 7305.19.1030, 7305.19.5000, 7306.19.1010, 7306.19.1050, 7306.19.5110, and 7306.19.5150. The subject merchandise may also enter in HTSUS 7305.11.1060 and 7305.12.1060. While the HTSUS subheadings are provided for convenience and customs purposes, the written description of the scope of the order is dispositive.

Partial Rescission of Administrative Review

As noted in the Preliminary Results, the record of this administrative review indicates that the 18 companies listed in the appendix to this notice have no reviewable, suspended entries of subject merchandise during the POR. It is Commerce's practice to rescind an administrative review pursuant to 19 CFR 351.213(d)(3) when there are no reviewable entries of subject merchandise during the POR for which liquidation is suspended.⁴ In the Preliminary Results, we preliminarily determined to rescind this administrative review with respect to the 18 companies that have no reviewable, suspended entries of subject merchandise during the POR. We received no comments from interested parties with respect to this record information or the preliminary partial rescission of the administrative review. Therefore, we are rescinding this administrative review, in part, with respect to the 18 companies that have no reviewable entries during the POR.

⁴ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

Partial Deferral of Administrative Review

As noted in the Preliminary Results, we determined that there are no reviewable sales to an unaffiliated U.S. customer related to Cimtas' POR entries of subject merchandise and preliminarily determined to defer Cimtas' sales reporting until a subsequent review period.⁵ We received no comments from interested parties with respect to this record information. Therefore, we continue to find that Cimtas has no reviewable sales during this POR and we are deferring Cimtas' reporting of its sales to the subsequent review, contingent upon receiving a request for review of Cimtas.

⁵ See Preliminary Results, 85 FR at 81878; see also Memorandum, “Antidumping Duty Administrative Review of Welded Line Pipe from the Republic of Turkey: Business Proprietary Information (BPI) Related to the Preliminary Results,” dated December 17, 2020.

Assessment Rates

We will instruct U.S. Customs and Border Protection (CBP) to liquidate any suspended entries of subject merchandise for the 18 companies listed in the appendix to this notice at the rate in effect at the time of entry. Consistent with its recent notice,⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁶ See Notice of Discontinuation of Policy to Issue Liquidation Instructions After 15 Days in Applicable Antidumping and Countervailing Duty Administrative Proceedings, 86 FR 884 (January 15, 2021).

As Commerce has made a final determination to defer the review with respect to Cimtas' suspended entries of subject merchandise during the POR, these entries will remain suspended until completion of the ongoing review of the antidumping duty order of welded line pipe from Turkey for the period December 1, 2019, through November 30, 2020.⁷ When Commerce completes its review and issues final results for the period December 1, 2019, through November 30, 2020, we will instruct CBP to assess antidumping duties on and liquidate Cimtas' suspended entries of subject merchandise during the POR based on the final results of that review. If Commerce receives a timely withdrawal of the request to review Cimtas and rescinds the review with respect to Cimtas for the period December 1, 2019, through November 30, 2020, we will instruct CBP to assess antidumping duties on and liquidate Cimtas' suspended entries of subject merchandise during the POR at the cash deposit rate in effect at the time of entry.

⁷ See Initiation of Antidumping and Countervailing Duty Administrative Reviews, 86 FR 8166, 8171 (February 4, 2021).

Cash Deposit Requirements

As Commerce has proceeded to a final rescission, in part, and final deferral, in part, of this administrative review, no cash deposit rates will change. Accordingly, the current cash deposit requirements shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these results in accordance with sections 751(a)(1) of the Act and 19 CFR 351.213(d).

Dated: March 30, 2021.
James Maeder,
Deputy Assistant Secretary for Antidumping and Countervailing Duty Operations.

Appendix

Borusan Istikbal Ticaret

Borusan Mannesmann Boru Sanayi ve Ticaret A.S.

Cayirova Boru Sanayi ve Ticaret A.S.

Emek Boru Makina Sanayi ve Ticaret A.S.

Erbosan Erciyas Tube Industry and Trade Co. Inc.

Erciyas Celik Boru Sanayii A.S.

Guven Celik Boru Sanayii ve Ticaret Ltd. Sti.

Has Altinyagmur celik Boru Sanayii ve Ticaret Ltd. Sti.

HDM Steel Pipe Industry & Trade Co. Ltd.

Metalteks Celik Urunleri Sanayii

MMZ Onur Boru Profil Uretim Sanayii ve Ticaret A.S.

Noksel Steel Pipe Co. Inc.

Ozbal Celik Boru

Toscelik Profile and Sheet Industry, Co.

Tosyali Dis Ticaret A.S.

Umran Celik Boru Sanayii

YMS Pipe & Metal Sanayii A.S.

Yucel Boru Ithalat-Ihracat ve Pazarlama A.S.

[FR Doc. 2021-06841 Filed 4-1-21; 8:45 am]

BILLING CODE 3510-DS-P